DEPARTMENT OF HOMELAND SECURITY

Coast Guard

33 CFR Part 117

[Docket No. USCG-2010-0954]

Drawbridge Operation Regulation; Illinois River, Pekin, IL

AGENCY: Coast Guard, DHS.

ACTION: Notice of temporary deviation from regulations.

SUMMARY: The Commander, Eighth Coast Guard District, has issued a temporary deviation from the regulation governing the operation of the Pekin Railroad Drawbridge across the Illinois Waterway, mile 151.2, Pekin, Illinois. The deviation is necessary to allow the replacement of lift cables and associated mechanisms on the lift span and allows the bridge to be maintained in the closed-to-navigation position during the deviation period.

DATES: This deviation is effective for five days starting at 6 a.m. on November 9, 2010 and ending at 11:59 p.m. on November 13, 2010.

ADDRESSES: Documents mentioned in this preamble as being available in the docket are part of docket USCG-2010-0954 and are available online by going to http://www.regulations.gov, inserting USCG-2010-0954 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Eric A. Washburn, Bridge Administrator, Coast Guard; telephone 314-269-2378, e-mail Eric.Washburn@uscg.mil. If you have questions on viewing the docket, call Renee V. Wright, Program Manager, Docket Operations, telephone 202-366-9826.

SUPPLEMENTARY INFORMATION: The Union Pacific Railroad requested a temporary deviation for the Pekin Railroad Drawbridge, across the Illinois Waterway, mile 151.2, at Pekin, Illinois to remain in the closed-to-navigation position for a five day period while lift cables and associated mechanisms are replaced on the lift span. The Pekin Railroad Drawbridge currently operates in accordance with 33 CFR 117.5, which states the general requirement that drawbridges shall open promptly and fully for the passage of vessels when a request to open is given in accordance with the subpart.

There are no alternate routes for vessels transiting this section of the Illinois Waterway.

The Pekin Railroad Drawbridge, in the closed-to-navigation position, provides a vertical clearance of 34.3 feet above normal pool. Navigation on the waterway consists primarily of commercial tows and recreational watercraft. This temporary deviation has been coordinated with waterway users.

In accordance with 33 CFR 117.35(e), the drawbridge must return to its regular operating schedule immediately at the end of the designated time period. This deviation from the operating regulations is authorized under 33 CFR 117.35.

Dated: October 12, 2010.
Eric A. Washburn,
Bridge Administrator.

[FR Doc. 2010-26674 Filed 10-21-10; 8:45 am]

BILLING CODE 9110-04-P